DEPARTMENT OF COMMERCE

International Trade Administration

[A-533-840]

Certain Frozen Warmwater Shrimp From India: Preliminary Results of Antidumping Duty Administrative Review; 2023-2024

AGENCY: Enforcement and Compliance, International Trade Administration, Department of Commerce.

SUMMARY: The U.S. Department of Commerce (Commerce) preliminarily determines that producers and/or exporters subject to this review made sales of subject merchandise at less than normal value during the period of review (POR), February 1, 2023, through January 31, 2024. Interested parties are invited to comment on these preliminary results of review.

DATES: Applicable June 11, 2025.

FOR FURTHER INFORMATION CONTACT: Aislin Salassi or Grant Fuller, AD/CVD Operations, Office IX, Enforcement and Compliance, International Trade Administration, U.S. Department of Commerce, 1401 Constitution Avenue NW, Washington, DC 20230; telephone: (202) 482-1882 or (202) 482-6228, respectively.

SUPPLEMENTARY INFORMATION:

Background

On April 9, 2024, based on timely requests for review, in accordance with 19 CFR 351.221(c)(1)(i), we initiated an administrative review of the antidumping duty order on shrimp from India.¹ On July 22, 2024, Commerce tolled certain deadlines in this administrative proceeding by seven days.² On October 22, 2024, we extended the preliminary results of this review to February 28, 2025.³ On December 9, 2024, Commerce tolled certain deadlines in this administrative proceeding by an additional 90 days.⁴ On May 13, 2025, we further extended the preliminary results of this review to June 5, 2025.⁵ For a complete description of the events that followed the initiation of this review, see the Preliminary Decision Memorandum.⁶

¹ See Initiation of Antidumping and Countervailing Duty Administrative Reviews, 89 FR 24780 (April 9, 2024); see also Notice of Amended Final Determination of Sales at Less Than Fair Value and Antidumping Duty Order: Certain Frozen Warmwater Shrimp from India, 70 FR 5147 (February 1, 2005) (Order).

² See Memorandum, “Tolling of Deadlines for Antidumping and Countervailing Duty Proceedings,” dated July 22, 2024.

³ See Memorandum, “Extension of Deadline for Preliminary Results of 2023-2024 Antidumping Duty Administrative Review,” dated October 22, 2024.

⁴ See Memorandum, “Tolling of Deadlines for Antidumping and Countervailing Duty Proceedings,” dated December 9, 2024.

⁵ See Memorandum, “Extension of Deadline for Preliminary Results of 2023-2024 Antidumping Duty Administrative Review,” dated May 13, 2025.

⁶ See Memorandum, “Decision Memorandum for the Preliminary Results of the 2023-2024 Administrative Review of the Antidumping Duty Order on Certain Frozen Warmwater Shrimp from India,” dated concurrently with, and hereby adopted by, this notice (Preliminary Decision Memorandum).

Scope of the Order

The merchandise subject to the Order is shrimp from India. For a complete description of the scope of the Order, see the Preliminary Decision Memorandum.

Methodology

Commerce is conducting this review in accordance with section 751(a) of the Tariff Act of 1930, as amended (the Act). Export price and constructed export price are calculated in accordance with section 772 of the Act. NV is calculated in accordance with section 773 of the Act. For a full description of the methodology underlying our conclusions, see the Preliminary Decision Memorandum. A list of the topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Review-Specific Rate for Non-Examined Companies

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

Consistent with section 735(c)(5)(A) of the Act, we preliminarily calculated the weighted-average dumping margin for the non-selected companies using the calculated rates of the mandatory respondents, Devi Fisheries Limited/Satya Seafoods Private Limited/Usha Seafoods/Devi Aquatech Private Limited (collectively, the Devi Group) and Sandhya Aqua Exports Private Limited (Sandhya), which are not zero or de minimis, or determined entirely on the basis of facts available.⁷

⁷ See Memorandum, “Calculation of the Cash Deposit Rate for Non-Reviewed Companies for the Preliminary Results in the 2023-2024 Administrative Review of the Antidumping Duty Order on Frozen Warmwater Shrimp from India,” dated concurrently with this notice.

Preliminary Results of Review

As a result of this review, we preliminarily determine that the following weighted-average dumping margins exist for the respondents for the period February 1, 2023, through January 31, 2024:

Producer or exporter | Weighted-average dumping margin (percent)
Devi Fisheries Limited/Satya Seafoods Private Limited/Usha Seafoods/Devi Aquatech Private Limited | 2.01
Sandhya Aqua Exports Private Limited | 5.32
Companies Not Selected for Individual Examination ⁸ | 3.96

Disclosure

⁸ The exporters or producers not selected for individual examination are listed in Appendix II.

We intend to disclose to interested parties the calculations performed for these preliminary results within five days of any public announcement or, if there is no public announcement, within five days of the date of publication of this notice in the Federal Register, in accordance with 19 CFR 351.224(b).

Public Comment

Case briefs or other written comments may be submitted to the Assistant Secretary for Enforcement and Compliance no later than seven days after the date on which Commerce issues its post-preliminary analysis in this administrative review. A timeline for the submission of case briefs and written comments will be provided to interested parties at a later date. Rebuttal briefs, limited to issues raised in the case briefs, may be filed not later than five days after the date for filing case briefs.⁹ Interested parties who submit case briefs or rebuttal briefs in this proceeding must submit: (1) a table of contents listing each issue; and (2) a table of authorities.¹⁰ All briefs must be filed electronically using ACCESS. An electronically filed document must be received successfully in its entirety in ACCESS by 5:00 p.m. Eastern Time on the established deadline.

⁹ See 19 CFR 351.309(d); see also Administrative Protective Order, Service, and Other Procedures in Antidumping and Countervailing Duty Proceedings, 88 FR 67069, 67077 (September 29, 2023) (APO and Service Final Rule).

¹⁰ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹¹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹²

¹¹ We use the term “issue” here to describe an argument that Commerce would normally address in a comment of the Issues and Decision Memorandum.

¹² See APO and Service Final Rule.

Pursuant to 19 CFR 351.310(c), interested parties who wish to request a hearing must submit a written request to the Assistant Secretary for Enforcement and Compliance, filed electronically via ACCESS. Requests should contain: (1) the requesting party's name, address, and telephone number; (2) the number of participants that will attend the hearing and whether any of those individuals is a foreign national; and (3) a list of the issues to be discussed. Issues raised in the hearing will be limited to those raised in the party's case and rebuttal briefs. An electronically filed hearing request must be received successfully in its entirety by Commerce's electronic records system, ACCESS, by 5 p.m. Eastern Time within 30 days after the date of publication of this notice in the Federal Register. If a request for a hearing is made, Commerce will inform parties of the scheduled date for the hearing.¹³

¹³ See 19 CFR 351.310(d).

Verification

On July 17, 2024, the American Shrimp Processors Association, a domestic interested party, requested that Commerce conduct verification of the Devi Group's responses. Accordingly, in March 2025, as provided in section 782(i)(3) of the Act, we verified the Devi Group's information relied upon for the preliminary results of this review.

Assessment Rates

Upon issuing the final results, Commerce shall determine, and U.S. Customs and Border Protection (CBP) shall assess, antidumping duties on all appropriate entries. Pursuant to 19 CFR 351.212(b)(1), because both the Devi Group and Sandhya reported the entered value for all of their U.S. sales, we calculated importer-specific ad valorem duty assessment rates based on the ratio of the total amount of dumping calculated for each importer's examined sales to the total entered value of these sales. Where either the respondent's weighted-average dumping margin is zero or de minimis within the meaning of 19 CFR 351.106(c)(1), or an importer-specific rate is zero or de minimis, we will instruct CBP to liquidate the appropriate entries without regard to antidumping duties.

Commerce's “automatic assessment” practice will apply to entries of subject merchandise during the POR produced by the Devi Group or Sandhya for which the reviewed companies did not know that the merchandise they sold to the intermediary (e.g., a reseller, trading company, or exporter) was destined for the United States. In such instances, we will instruct CBP to liquidate unreviewed entries at the all-others rate if there is no rate for the intermediate company(ies) involved in the transaction.¹⁴

¹⁴ For a full discussion of this practice, see Antidumping and Countervailing Duty Proceedings: Assessment of Antidumping Duties, 68 FR 23954 (May 6, 2003).

For the companies which were not selected for individual review, we will instruct CBP to assess antidumping duties on all appropriate entries at the review-specific average rate, calculated as noted in the “Review-Specific Rate for Non-Examined Companies” section, above. The final results of this review shall be the basis for the assessment of antidumping duties on entries of merchandise covered by the final results of this review and for future deposits of estimated duties, where applicable.¹⁵

¹⁵ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the companies listed above will be that established in the final results of this review, except if the rate is less than 0.50 percent and, therefore, de minimis within the meaning of 19 CFR 351.106(c)(1), in which case the cash deposit rate will be zero; (2) for previously investigated or reviewed companies not covered in this review, the cash deposit rate will continue to be the company-specific cash deposit rate published for the most recently completed segment of this proceeding in which the company participated; (3) if the exporter is not a firm covered in this review, or the LTFV investigation, but the manufacturer is, then the cash deposit rate will be the rate established for the most recent segment for the manufacturer of the merchandise; and (4) the cash deposit rate for all other manufacturers or exporters will continue to be 10.17 percent, the all-others rate established in the LTFV investigation.¹⁶ These deposit requirements, when imposed, shall remain in effect until further notice.

¹⁶ See Order.

Final Results of Review

Unless otherwise extended, Commerce intends to issue the final results of this administrative review, including the results of its analysis of the issues raised in any written briefs, no later than 120 days after the date of publication of this notice in the Federal Register, pursuant to section 751(a)(3)(A) of the Act and 19 CFR 351.213(h)(1), unless otherwise extended.

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i)(1) of the Act, and 19 CFR 351.213(h) and 351.221(b)(4).

Dated: June 5, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Discussion of the Methodology

V. Recommendation

Appendix II

Companies Not Selected for Individual Examination

1. Abad Overseas Private Limited.

2. Accelerated Freeze Drying Co., Ltd.

3. Akshay Food Impex Private Limited

4. Alashore Marine Exports (P) Ltd.

5. Albys Agro Private Limited

6. Alpha Marine

7. Amaravathi Aqua Exports Private Ltd.

8. Ananda Aqua Applications; Ananda Aqua Exports (P) Limited; Ananda Foods

9. Ananda Enterprises (India) Private Limited

10. Aparna Marine Exports

11. Apex Frozen Foods Limited

12. Aquatica Frozen Foods Global Pvt. Ltd.

13. Arya Sea Foods Private Limited

14. Asvini Fisheries Ltd.; Asvini Fisheries Private Ltd.

15. Avanti Frozen Foods Private Limited

16. Blue-Fin Frozen Foods Pvt Ltd.

17. BMR Exports; BMR Exports Private Limited

18. BMR Industries Private Limited

19. B-One Business House Pvt. Ltd.

20. Calcutta Seafoods Pvt. Ltd.; Bay Seafood Pvt. Ltd.; Elque Ventures Private Limited

21. Castlerock Fisheries Ltd.

22. Choice Trading Corporation Pvt. Ltd.

23. Coastal Aqua Private Limited

24. Coastal Corporation Ltd.

25. Corlim Marine Exports Private Limited

26. Crystalnova Foods Pvt., Ltd.

27. Diamond Seafoods Exports; Edhayam Frozen Foods Pvt. Ltd.; Kadalkanny Frozen Foods; Theva & Company

28. DN Sea Shells Private Limited

29. Dwaraka Sea Foods

30. Falcon Marine Exports Limited; KR Enterprises

31. Food Products Pvt., Ltd.; Parayil Food Products Pvt., Ltd.

32. Forstar Frozen Foods Private Limited

33. Geo Seafoods

34. Godavari Mega Aqua Food Park Private Limited

35. Green Asia Impex Private Limited

36. Growel Processors Private Limited

37. Highland Agro Food Private Limited

38. Hyson Exports Private Limited

39. IFB Agro Industries Ltd.

40. ITC Ltd.

41. Jagadeesh Marine Exports

42. Jaya Lakshmi Sea Foods Pvt. Ltd.

43. Kader Exports Private Limited

44. Kalyan Aqua & Marine Exp. India Pvt. Ltd.

45. Kay Kay Exports; Kay Kay Foods

46. KNC Agro Limited; KNC AGRO PVT. LTD.

47. LNSK Greenhouse Agro Products LLP

48. Magnum Export; Magnum Exports Pvt. Ltd.

49. Magnum Sea Foods Limited; Magnum Estates Limited; Magnum Estates Private; Magnum Estates Private Limited

50. Mangala Marine Exim India Pvt. Ltd.

51. Mangala Seafoods; Mangala Sea Foods

52. Megaa Moda Pvt. Ltd.

53. Milesh Marine Exports Private Limited

54. Milsha Agro Exports Pvt. Ltd.

55. Mindhola Foods LLP

56. MMC Exports Limited

57. Monsun Foods Pvt. Ltd.

58. Mourya Aquex Pvt. Ltd.

59. Munnangi Seafoods (Pvt) Ltd.

60. Naga Hanuman Fish Packers

61. Nanak Nutritions Food (Taloja) Pvt., Ltd.

62. Neeli Aqua Private Limited

63. Nekkanti Sea Foods Limited

64. Nezami Rekha Sea Foods Private Limited; Nezami Rekha Sea Food Private Limited

65. Nila Sea Foods Exports; Nila Sea Foods Pvt. Ltd.

66. N.K. Marine Exports LLP

67. Pasupati Aquatics Private Limited

68. Penver Products (P) Ltd.

69. Rajyalakshmi Marine Exports

70. Razban Seafoods Ltd.

71. Royal Imports and Exports

72. Royale Marine Impex Pvt. Ltd.

73. RSA Marines; Royal Oceans

74. S.A. Exports

75. Sagar Grandhi Exports Pvt. Ltd.

76. Sai Marine Exports Pvt. Ltd.

77. Sam Aqua Exports LLP

78. Sandhya Marines Limited

79. Satish Marine Exim Private Limited

80. Sea Foods Private Limited

81. Sharat Industries Ltd.

82. Shimpo Exports Private Limited

83. Shree Datt Aquaculture Farms Pvt. Ltd.

84. Sigma Seafoods

85. Southern Tropical Foods Pvt. Ltd.

86. Sprint Exports Pvt. Ltd.

87. Sreeragam Export Private Limited

88. Summit Marine Exports Private Limited

89. Sunrise Seafoods India Private Limited

90. Suryamitra Exim Pvt. Ltd.

91. The Waterbase Ltd.

92. V.V. Marine Products

93. Vaisakhi Bio-Marine Private Limited

94. Varma Marine Private Limited

95. Vasista Marine

96. Veerabhadra Exports Private Limited

97. Wellcome Fisheries Limited

98. Z.A. Sea Foods Pvt. Ltd.

99. Zeal Aqua Limited

[FR Doc. 2025-10634 Filed 6-10-25; 8:45 am]

BILLING CODE 3510-DS-P